DEPARTMENT OF TRANSPORTATION

Federal Aviation Administration

14 CFR Part 129

[Docket No. FAA-202-12504]

Security Considerations for the Flightdeck on Foreign Operated Transport Category Airplanes; Correction

AGENCY: Federal Aviation Administration (FAA), DOT.

ACTION: Final rule; correction.

SUMMARY: This document corrects the contact information for a final rule published in the Federal Register June 21, 2002 regarding improved flightdeck security on passenger-carrying aircraft and some cargo aircraft.

In rule FR Doc 02-15524, published on June 21, 2002 (67 FR 42450), second column page 42450, the FOR FURTHER INFORMATION CONTACT section is corrected to read as set forth below.

FOR FURTHER INFORMATION CONTACT: For part 25 issues, contact Jeff Gardlin, FAA Airframe and Cabin Safety Branch, ANM-115, Transport Airplane Directorate, Aircraft Certification Service, 1601 Lind Avenue SW., Renton, Washington 98055-4056; telephone (425) 227-2136; facsimile (425- 227-1149; e-mail: jeff.gardlin@faa.gov. For part 129 issues, contact Michael E. Daniel, International Liaison Staff, AFS-50, Flight Standards Service, Federal Aviation Administration, 800 Independence Avenue, SW., Washington, DC 20591; telephone (202) 385-4510; facsimile (202) 385-4561; e-mail: mike.e.daniel@faa.gov.

Issued in Washington, DC on July 18, 2002.
Richard McCurdy,
Manager Airworthiness Law Branch.

[FR Doc. 02-18762 Filed 7-25-02; 8:45 am]

BILLING CODE 4910-13-M